NUCLEAR REGULATORY COMMISSION

[Docket Nos. 50-338 and 50-339; Docket Nos. 50-280 and 50-281; NRC-2010-0376]

Virginia Electric and Power Company North Anna Power Station, Unit Nos. 1 and 2 Surry Power Station, Unit Nos. 1 and 2; Environmental Assessment and Finding of No Significant Impact

The U.S. Nuclear Regulatory Commission (NRC) is considering changes to the Emergency Plan, pursuant to 10 CFR 50.54, “Conditions of licenses,” paragraph (q), for North Anna Power Station, Unit Nos. 1 and 2 (NAPS), for Renewed Facility Operating License Nos. NPF-4 and NPF-7, and Surry Power Station, Unit Nos. 1 and 2 (Surry) for Renewed Facility Operating License Nos. DPR-32 and DPR-37, issued to Virginia Electric and Power Company (the licensee), for operation of NAPS and Surry located in Louisa County, Virginia, and Surry County, Virginia, respectively. Therefore, as required by 10 CFR 51.21, the NRC performed an environmental assessment. Based on the results of the environmental assessment, the NRC is issuing a finding of no significant impact.

Environmental Assessment

Identification of the Proposed Action

The proposed action would upgrade selected Emergency Action Levels (EALs) based on NEI 99-01, Revision 5, “Methodology for Development of Emergency Action Levels,” using the guidance of NRC Regulatory Issue Summary 2003-18, Supplement 1 and 2, “Use of Nuclear Energy Institute (NEI) 99-01, Methodology for Development of Emergency Action Levels.”

The proposed action is in accordance with the licensee's applications dated January 29, 2010 (Agencywide Documents Access and Management System (ADAMS) Accession No. ML100500566).

The Need for the Proposed Action

The proposed action is needed because amendments would change an EAL scheme based on NUREG-0654, “Criteria for Preparation and Evaluation of Radiological Emergency Response Plan and Preparedness in Support of Nuclear Power Plants,” to one based on NEI 99-01, “Methodology for Development of Emergency Action Levels,” Revision 4. This would change the methodology for deriving selected Notification of Unusual Event values in Table R-1, Gaseous Effluent Monitor Classification Thresholds, and deleting EAL RA2.4, which evaluates abnormal radiation readings at infrequently accessed areas and revise the radiation level threshold values for reactor coolant system (RCS) letdown indication.

Environmental Impacts of the Proposed Action

The NRC has completed its environmental assessment of the proposed EAL changes to NAPS and Surry. The staff has concluded that the changes would not significantly affect plant safety and would not have a significant adverse effect on the probability of an accident occurring. The proposed action would not result in an increased radiological hazard beyond those previously analyzed in the Updated Final Safety Analysis Report. There will be no change to radioactive effluents that affect radiation exposures to plant workers and members of the public. No changes will be made to plant buildings or the site property. Therefore, no changes or different types of radiological impacts are expected as a result of the proposed changes.

The proposed action does not result in changes to land use or water use, or result in changes to the quality or quantity of non-radiological effluents. No changes to the National Pollution Discharge Elimination System permit are needed. No effects on the aquatic or terrestrial habitat in the vicinity of the plant, or to threatened, endangered, or protected species under the Endangered Species Act, or impacts to essential fish habitat covered by the Magnuson-Stevens Act are expected. There are no impacts to the air or ambient air quality. There are no impacts to historic and cultural resources. There would be no noticeable effect on socioeconomic conditions in the region.

Accordingly, the NRC concludes that there are no significant environmental impacts associated with the proposed action.

Environmental Impacts of the Alternatives to the Proposed Action

As an alternative to the proposed action, the NRC staff considered denial of the proposed action (i.e., the“no-action” alternative). Denial of the application would result in no change in current environmental impacts. The environmental impacts of the proposed action and the alternative action are similar.

Alternative Use of Resources

The action does not involve the use of any different resources than those previously considered in the “Final Environmental Statement Related to the Continuation of Construction and the Operation,” for NAPS dated April 1973, and Surry dated May 1972 and June 1972, respectively, as supplemented through the “Generic Environmental Impact Statement for License Renewal of Nuclear Plants: Supplements 6 and 7 Regarding Surry and NAPS—Final Report (NUREG-1437, Supplements 6 and 7),” dated November 2002.

Agencies and Persons Consulted

In accordance with its stated policy, on November 17, 2010, the staff consulted with the Virginia State official, Leslie P. Foldesi, Director of the Division of Radiological Health, regarding the environmental impact of the proposed action. The State official had no comments.

Finding of No Significant Impact

On the basis of the environmental assessment, the NRC concludes that the proposed action will not have a significant effect on the quality of the human environment. Accordingly, the NRC has determined not to prepare an environmental impact statement for the proposed action.

For further details with respect to the proposed action, see the licensee's letters dated January 29, 2010. Documents may be examined, and/or copied for a fee, at the NRC's Public Document Room (PDR), located at One White Flint North, Public File Area O1 F21, 11555 Rockville Pike (first floor), Rockville, Maryland. Publicly available records will be accessible electronically from the Agencywide Documents Access and Management System (ADAMS) Public Electronic Reading Room on the Internet at the NRC Web site, http://www.nrc.gov/reading-rm/adams.html. Persons who do not have access to ADAMS or who encounter problems in accessing the documents located in ADAMS should contact the NRC PDR Reference staff by telephone at 1-800-397-4209 or 301-415-4737, or send an e-mail to pdr.resource@nrc.gov.

Dated at Rockville, Maryland, this 1st day of December 2010.
For the Nuclear Regulatory Commission.
V. Sreenivas,
Project Manager, Plant Licensing Branch 2-1, Division of Operating Reactor Licensing, Office of Nuclear Reactor Regulation.

[FR Doc. 2010-30855 Filed 12-7-10; 8:45 am]

BILLING CODE 7590-01-P